SOCIAL SECURITY ADMINISTRATION

[Docket No. SSA-2021-0013]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions, and extensions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA

Comments: https://www.reginfo.gov/public/do/PRAMain. Submit your comments online referencing Docket ID Number [SSA-2021-0013].

(SSA) Social Security Administration, OLCA, Attn: Reports Clearance Director, 3100 West High Rise, 6401 Security Blvd., Baltimore, MD 21235, Fax: 410-966-2830, Email address: OR.Reports.Clearance@ssa.gov.

Or you may submit your comments online through https://www.reginfo.gov/public/do/PRAMain, referencing Docket ID Number [SSA-2021-0013].

I. The information collections below are pending at SSA. SSA will submit them to OMB within 60 days from the date of this notice. To be sure we consider your comments, we must receive them no later than August 2, 2021. Individuals can obtain copies of the collection instruments by writing to the above email address.

1. Request for Workers' Compensation/Public Disability Benefit Information—20 CFR 404.408(e)—0960-0098. Individuals who received both Social Security disability payments and Worker's Compensation/Public Disability Benefits (WC/PDB) must notify SSA about their WC/PDB, so that the agency can reduce the claimants' Social Security disability payments accordingly. Recipients may submit evidence of their WC/PDB, such as a copy of their award notice or benefit check, or have their WC/PDB provider complete Form SSA-1709 to document their WC/PDB to SSA. The respondents are Federal, State, and local agencies, insurance carriers, and public or private self-insured companies administering WC/PDB benefits to disability recipients.

Type of Request: Revision of an OMB-approved information collection.

Modality of completion | Number of respondents | Frequency of response | Average burden per response (minutes) | Estimated total annual burden (hours) | Average theoretical hourly cost amount (dollars) * | Total annual opportunity cost (dollars) **
SSA-1709 | 120,000 | 1 | 15 | 30,000 | * $26.65 | ** $799,500
* We based this figure by averaging both the average Federal, State, and Local Government hourly wages (https://www.bls.gov/oes/current/naics3_999000.htm), and the average Insurance Claims and Policy Processing Clerks hourly wages, as reported by Bureau of Labor Statistics data (https://www.bls.gov/oes/current/oes439041.htm).
** This figure does not represent actual costs that SSA is imposing on recipients of Social Security payments to complete this application; rather, these are theoretical opportunity costs for the additional time respondents will spend to complete the application. There is no actual charge to respondents to complete the application.

2. Coverage of Employees of State and Local Governments—20 CFR part 404, subpart M—0960-0425. The regulations at 20 CFR part 404, subpart M prescribe the rules for States to submit reports of deposits and recordkeeping to SSA. SSA requires States (and interstate instrumentalities) to provide wage and deposit contribution information for pre-1987 tax years. Since not all States have completely satisfied their pending wage report and contribution liability with SSA for pre-1987 tax years, SSA needs these regulations until all pending items with the States are completed, and to allow for collection of this information in the future, if necessary. The respondents are State and local governments or interstate instrumentalities.

Type of Request: Extension of an OMB-approved information collection.

Regulation section | Number of respondents | Frequency of response | Average burden per response (minutes) | Total annual burden (hours) | Average theoretical hourly cost amount (dollars) * | Total annual opportunity cost (dollars) **
404. 1204 (a) & (b) | 52 | 1 | 30 | 26 | * $28.74 | ** $747
404.1215 | 52 | 1 | 60 | 52 | * 28.74 | ** 1,494
404. 1216 (a) & (b) | 52 | 1 | 60 | 52 | * 28.74 | ** 1,494
Totals | 156 |  |  | 130 |  | ** 3,735
* We based this figure by averaging both the average State Government hourly wages (https://www.bls.gov/oes/current/naics4_999200.htm), and the average Local Government hourly wages, as reported by Bureau of Labor Statistics data (https://www.bls.gov/oes/current/naics4_999300.htm).
** This figure does not represent actual costs that SSA is imposing on recipients of Social Security payments to complete this application; rather, these are theoretical opportunity costs for the additional time respondents will spend to complete the application. There is no actual charge to respondents to complete the application.

3. Representative Payment—20 CFR 404.2011, 404.2025, 416.611, and 416.625—0960-0679. The regulations at 20 CFR 404.2011 and 416.611 allow SSA to make payments to recipients' representative payees if it may cause substantial harm for the beneficiaries to receive their payments directly. The regulations allow beneficiaries to dispute a finding that substantial harm exists by providing SSA with evidence to reevaluate the determination. In addition, sections 20 CFR 404.2025 and 416.625 describe the information representative payees must provide SSA about their continuing relationship and responsibility for the recipients, and explain how they use the recipients' payments to verify payee performance. The respondents are Title II and Title XVI recipients, and their representative payees.

Type of Request: Revision of an OMB-approved information collection.

Regulation section | Number of respondents | Frequency of response | Average burden per response (minutes) | Estimated total annual burden (hours) | Average theoretical hourly cost amount (dollars) * | Total annual opportunity cost (dollars) **
404.2011(a)(1); 416.611(a)(1) | 260 | 1 | 15 | 65 | * $19.01 | ** $1,236
404.2025; 416.625 | 3,090 | 1 | 6 | 309 | * 19.01 | ** 5,874
Totals | 3,350 |  |  | 374 |  | ** 7,110
* We based this figure on averaging both the average DI payments based on SSA's current FY 2021 data (https://www.ssa.gov/legislation/2021FactSheet.pdf), and the average U.S. worker's hourly wages, as reported by Bureau of Labor Statistics data (https://www.bls.gov/oes/current/oes_nat.htm).
** This figure does not represent actual costs that SSA is imposing on recipients of Social Security payments to complete this application; rather, these are theoretical opportunity costs for the additional time respondents will spend to complete the application. There is no actual charge to respondents to complete the application.

4. Function Report—Adult—20 CFR 404.1512 & 416.912—0960-0681. Individuals receiving or applying for Social Security disability insurance (SSDI) or Supplemental Security Income (SSI) must provide medical evidence and other proof SSA requires to prove their disability. SSA staff, and, on SSA's behalf, State Disability Determination Services' (DDS) employees, collect the information via paper Form SSA-3373, or through an in-person or telephone interview for cases where we need information about a claimant's activities and abilities to evaluate the claimant's disability. We use the information to document how claimants' disabilities affect their ability to function, and to determine eligibility, or continued eligibility, for SSI and SSDI claims. The respondents are adult Title II and Title XVI claimants, or current recipients undergoing redeterminations of benefits.

Type of Request: Revision of an OMB-approved information collection.

Modality of completion | Number of respondents | Frequency of response | Average burden per response (minutes) | Estimated total annual burden (hours) | Average theoretical hourly cost amount (dollars) * | Average wait time in field office or for teleservice centers (minutes) ** | Total annual opportunity cost (dollars) ***
SSA-3373 | 1,734,635 | 1 | 61 | 1,763,546 | * $10.95 | ** 21 | *** $25,958,815
* We based this figure on the average DI payments based on SSA's current FY 2021 data (https://www.ssa.gov/legislation/2021FactSheet.pdf).
** We based this figure on averaging both the average FY 2021 wait times for field offices and teleservice centers, based on SSA's current management information data.
*** This figure does not represent actual costs that SSA is imposing on recipients of Social Security payments to complete this application; rather, these are theoretical opportunity costs for the additional time respondents will spend to complete the application. There is no actual charge to respondents to complete the application.

II. SSA submitted the information collections below to OMB for clearance. Your comments regarding these information collections would be most useful if OMB and SSA receive them 30 days from the date of this publication. To be sure we consider your comments, we must receive them no later than July 1, 2021. Individuals can obtain copies of these OMB clearance packages by writing to OR.Reports.Clearance@ssa.gov.

1. Certification by Religious Group—20 CFR 404.1075—0960-0093. SSA is responsible for determining whether religious groups meet the qualifications exempting certain members and sects from payment of Self-Employment Contribution Act taxes under the Internal Revenue Code, Section 1402(g). SSA sends Form SSA-1458, Certification by Religious Group, to a group's authorized spokesperson to complete and verify organizational members meet or continue to meet the criteria for exemption. The respondents are spokespersons for religious groups or sects.

Type of Request: Revision of an OMB-approved information collection.

Note: This is a correction notice: SSA published the incorrect burden information for this collection at 86 FR 12068, on 3/01/21. We are correcting this error here.

Modality of completion | Number of respondents | Frequency of response | Average burden per response (minutes) | Estimated total annual burden (hours) | Average theoretical hourly cost amount (dollars) * | Total annual opportunity cost (dollars) **
SSA-1458 | 142 | 1 | 15 | 36 | * $27.07 | ** $975
* We based this figure on average U.S. worker's hourly wages, as reported by Bureau of Labor Statistics data (https://www.bls.gov/oes/current/oes_nat.htm#00-0000).
** This figure does not represent actual costs that SSA is imposing on recipients of Social Security payments to complete this application; rather, these are theoretical opportunity costs for the additional time respondents will spend to complete the application. There is no actual charge to respondents to complete the application.

2. Application for Extra Help with Medicare Prescription Drug Plan Costs—20 CFR 418.3101—0960-0696. The Medicare Modernization Act of 2003 mandated the creation of the Medicare Part D prescription drug coverage program and the provision of subsidies for eligible Medicare beneficiaries. SSA uses Form SSA-1020 or the internet i1020, the Application for Extra Help with Medicare Prescription Drug Plan Costs, to obtain income and resource information from Medicare beneficiaries, and to make a subsidy decision. The respondents are Medicare beneficiaries applying for the Part D low-income subsidy.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-1020 (paper applications) | 448,836 | 1 | 30 | 224,418 | * $27.07 | 0 | *** $6,074,995
i1020 (online applications) | 365,871 | 1 | 25 | 152,446 | * 27.07 | 0 | *** 4,126,713
Field Office Interviews | 85,873 | 1 | 30 | 42,937 | * 27.07 | ** 24 | *** 2,092,132
Totals | 900,580 |  |  | 419,801 |  |  | *** 12,293,840
* We based this figures on average U.S. citizen's hourly salary, as reported by Bureau of Labor Statistics data (https://www.bls.gov/oes/current/oes_nat.htm#00-0000).
** This figure does not represent actual costs that SSA is imposing on recipients of Social Security payments to complete this application; rather, these are theoretical opportunity costs for the additional time respondents will spend to complete the application. There is no actual charge to respondents to complete the application.

3. Rules of Conduct and Standards of Responsibility for Appointed Representatives—20 CFR 404.1740(b)(5), 404.1740(b)(6), 404.1740(b)(9), 416.1540(b)(5), 416.1540(b)(6), and 416.1540(b)(9)—0960-0804. Section 205(a) of the Act authorizes SSA's Commissioner to make rules and regulations and to establish procedures, not inconsistent with the provisions of this title, which are necessary or appropriate to carry out such provisions. Section 1631(d)(1) of the Act incorporates section 205(a) and applies it to Title XVI of the Act. Additionally, sections 206(a) and 1631(d)(2) of the Act provide that the Commissioner has the authority to establish rules and regulations governing the recognition of individuals who represent claimants before the Commissioner. Individuals appointed to represent claimants before SSA must report to SSA in writing whenever one of the following situations in our revised regulations occurs:

• 20 CFR 404.1740(b)(5) and 416.1540(b)(5)—This regulatory section requires representatives to disclose to SSA in writing, at the time a medical or vocational opinion is submitted to SSA, or as soon as the representative is aware of the submission to us, if the representative's employee or any individual contracting with the representative drafted, prepared, or issued a medical or vocational opinion about a claimant's disability, or if the representative referred or suggested that the claimant seek an examination from, treatment by, or the assistance of the individual providing opinion evidence;

• 20 CFR 404.1740(b)(6) and 416.1540(b)(6)—This regulatory section requires representatives to disclose to SSA immediately if the representative discovers that his or her services are or were used by the claimant to commit fraud against SSA;

• 20 CFR 404.1740(b)(7) and 416.1540(b)(7)—This regulatory section requires representatives to disclose to SSA whether the representative is or has been disbarred or suspended from any bar or court to which he or she was previously admitted to practice, including instances in which a bar or court took administrative action to disbar or suspend the representative in lieu of disciplinary proceedings; If the disbarment or suspension occurs after the appointment of the representative, the representative will immediately disclose the disbarment or suspension to SSA;

• 20 CFR 404.1740(b)(8) and 416.1540(b)(8)—This regulatory section requires representatives to disclose to SSA whether the representative is or has been disqualified from participating in or appearing before any Federal program or agency, including instances in which a Federal program or agency took administrative action to disqualify the representative in lieu of disciplinary proceedings. If the disqualification occurs after the appointment of the representative, the representative will immediately disclose the disqualification to SSA; and;

• 20 CFR 404.1740(b)(9) and 416.1540(b)(9)—This regulatory section requires representatives to disclose to SSA whether the representative has been removed from practice or suspended by a professional licensing authority for reasons that reflect on the representative's character, integrity, judgment, reliability, or fitness to serve as a fiduciary. If the removal or suspension occurs after the appointment of the representative, the representative will immediately disclose the removal or suspension to SSA.

A representative's obligation to report these events is ongoing, and SSA requires representatives to report any time one or more of these events occurs. We consider this information essential to ensure the integrity of our administrative process and to safeguard the rights of all claimants. SSA requires representatives to notify SSA in writing, but there is no prescribed format for these reports. The respondents are individuals appointed to represent claimants before SSA.

Type of Request: Extension of an OMB-approved information collection.

Regulation section | Number of respondents | Frequency of response | Average burden per response (minutes) | Estimated annual burden (hours) | Average theoretical hourly cost amount (dollars) * | Total annual opportunity cost (dollars) **
404.1740(b)(5)/416.1540(b)(5) | 43,600 | 1 | 5 | 3,633 | * $26.45 | ** $96,093
404.1740(b)(6)/416.1540(b)(6) | 2 | 1 | 5 | 0 | * 69.86 | ** 0
404.1740(b)(7)/416.1540(b)(7) | 50 | 1 | 5 | 4 | * 69.86 | ** 279
404.1740(b)(8)/416.1540(b)(8) | 10 | 1 | 5 | 1 | * 69.86 | ** 70
404.170(b)(9)/416.1540(b)(9) | 10 | 1 | 5 | 1 | * 69.86 | ** 70
Totals | 43,672 |  |  | 3,639 |  | 96,512
* We based this figure on average hourly wages for paralegals/legal assistants and lawyers as posted by the U.S. Bureau of Labor Statistics (https://www.bls.gov/oes/current/oes_nat.htm).
** These figures do not represent actual costs that SSA is imposing on representatives to complete the required disclosures; rather, these are theoretical opportunity costs for the additional time representatives or their employees and associates will spend to complete the required disclosures. There is no actual charge to representatives to complete the required disclosures.

Dated: May 25, 2021.
Naomi Sipple,
Reports Clearance Officer, Social Security Administration.

[FR Doc. 2021-11421 Filed 5-28-21; 8:45 am]

BILLING CODE 4191-02-P